DEPARTMENT OF ENERGY

Federal Energy Regulatory Commission

[Project No. 14367-001]

Don W. Gilbert Hydro Power, LLC; Notice of Application Tendered for Filing With the Commission and Soliciting Additional Study Requests

Take notice that the following hydroelectric application has been filed with the Commission and is available for public inspection.

a. Type of Application: Original Minor License.

b. Project No.: 14367-001.

c. Date filed: May 30, 2012.

d. Applicant: Don W. Gilbert Hydro Power, LLC.

e. Name of Project: Gilbert Hydroelectric Project.

f. Location: The project would utilize unnamed springs near the Bear River, eight miles southwest of Grace in Caribou County, Idaho. The project would be located on lands owned by the applicant and would not occupy any federal lands.

g. Filed Pursuant to: Federal Power Act 16 U.S.C. 791(a)-825(r) [For 5-MW exemptions, use the following language instead: Public Utility Regulatory Policies Act of 1978, 16 U.S.C. 2705, 2708.]

h. Applicant Contact: Don W. Gilbert and DeAnn G. Somonich, Don W. Gilbert Hydro Power, LLC, 1805 Grace Power Plant Road, Grace, Idaho 83241. Phone: (801) 725-1754.

i. FERC Contact: Kelly Wolcott, (202) 502-6480 or kelly.wolcott@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: July 30, 2012.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

m. The application is not ready for environmental analysis at this time.

n. The Gilbert Project would consist of the following new features: (1) A 8-foot-long, 3-foot-wide, 3-foot-deep drop inlet structure; (2) a 2-foot-diameter, 700-foot-long partially buried steel or plastic penstock; (3) a powerhouse containing two 45-kilowatt (kW) turbine/generator units for a total installed capacity of 90 kW; (4) a tailrace to convey flows from the powerhouse to the Bear River; (5) a 150-foot-long, 480-kilovolt transmission line; and (6) appurtenant facilities. The project is estimated to generate an average of 550 megawatthours annually. The project would be located on lands owned by the applicant

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule: The application will be processed according to the following preliminary Hydro Licensing Schedule. Revisions to the schedule will be made as appropriate (e.g., if scoping is waived, the schedule would be shortened).

Issue Deficiency and/or Additional Information Letter | July 2012.
Issue Notice of Acceptance | August 2012.
Issue Scoping Document | August 2012.
Issue Notice of Ready for Environmental Analysis | October 2012.
Commission issues EA | February 2013.

Dated: June 12, 2012.
Kimberly D. Bose,
Secretary.

[FR Doc. 2012-14984 Filed 6-19-12; 8:45 am]

BILLING CODE 6717-01-P